FEDERAL COMMUNICATIONS COMMISSION

47 CFR Part 20

[GN Docket No. 13-111; Report No. 3183; FR ID 62697]

Petition for Reconsideration of Action in Rulemaking Proceeding

AGENCY: Federal Communications Commission.

ACTION: Petition for Reconsideration.

SUMMARY: Petition for Reconsideration (Petition) has been filed in the Commission's rulemaking proceeding by Thomas C. Power, on behalf of CTIA.

DATES: Oppositions to the Petition must be filed on or before January 6, 2022. Replies to oppositions must be filed on or before January 18, 2022.

ADDRESSES: Federal Communications Commission, 45 L Street NE, Washington, DC 20554.

FOR FURTHER INFORMATION CONTACT: Halie Peacher, Attorney-Advisor, Mobility Division, Wireless Telecommunications Bureau, (202) 418-0514 or via email at halie.peacher@fcc.gov.

SUPPLEMENTARY INFORMATION: This is a summary of the Commission's document, Report No. 3183, released December 13, 2021. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: In the Matter of Promoting Technological Solutions to Combat Contraband Wireless Device Use in Correctional Facilities, Second Report and Order, published at 86 FR 44635, August 13, 2021, in GN Docket No. 13-111. This document is being published pursuant to 47 CFR 1.429(e). See also 47 CFR 1.4(b)(1) and 1.429(f), (g).

Number of Petitions Filed: 1.

Federal Communications Commission.
Katura Jackson,
Federal Register Liaison Officer.

[FR Doc. 2021-27727 Filed 12-21-21; 8:45 am]

BILLING CODE 6712-01-P